DEPARTMENT OF LABOR

Employment and Training Administration

[TA-W-50,700]

20th Century Machine, Armada, MI; Notice of Termination of Investigation

Pursuant to section 221 of the Trade Act of 1974, as amended, an investigation was initiated on January 28, 2003 in response to a worker petition filed by a company official on behalf of workers at 20th Century Machine, Armada, Michigan.

The petitioner has requested that the petition be withdrawn. Consequently, the investigation has been terminated.

Signed at Washington, DC, this 21st day of February, 2003.
Richard Church,
Certifying Officer, Division of Trade Adjustment Assistance.

[FR Doc. 03-5549 Filed 3-7-03; 8:45 am]

BILLING CODE 4510-30-P